DEPARTMENT OF ENERGY

Federal Energy Regulatory Commission

Combined Notice of Filings

Take notice that the Commission has received the following Natural Gas Pipeline Rate and Refund Report filings:

Docket Numbers: RP18-1115-002.

Applicants: Saltville Gas Storage Company L.L.C.

Description: Compliance filing Saltville RP18-1115 Compliance Filing to be effective 10/1/2018.

Filed Date: 5/30/19.

Accession Number: 20190530-5500.

Comments Due: 5 p.m. ET 6/6/19.

Docket Numbers: RP19-343-004.

Applicants: Texas Eastern Transmission, LP.

Description: Compliance filing TETLP Rate Case Compliance Filing RP19-343-000 to be effective 6/1/2019.

Filed Date: 5/24/19.

Accession Number: 20190524-5121.

Comments Due: 5 p.m. ET 6/5/19.

Docket Numbers: RP19-1234-000.

Applicants: Transcontinental Gas Pipe Line Company, LLC.

Description: Compliance filing 2019 Refund Report—Texas Eastern OFO Penalties (Rate Schedule S-2) to be effective N/A.

Filed Date: 5/23/19.

Accession Number: 20190523-5037.

Comments Due: 5 p.m. ET 6/4/19.

Docket Numbers: RP19-1235-000.

Applicants: Tallgrass Interstate Gas Transmission, LLC.

Description: Penalty Charge Reconciliation Filing of Tallgrass Interstate Gas Transmission, LLC.

Filed Date: 5/22/19.

Accession Number: 20190522-5214.

Comments Due: 5 p.m. ET 6/3/19.

Docket Numbers: RP19-1236-000.

Applicants: Vector Pipeline L.P.

Description: § 4(d) Rate Filing: Tariff Clean-Up Filing (7/1/2019) to be effective 7/1/2019.

Filed Date: 5/23/19.

Accession Number: 20190523-5073.

Comments Due: 5 p.m. ET 6/4/19.

Docket Numbers: RP19-1237-000.

Applicants: Transcontinental Gas Pipe Line Company, LLC.

Description: § 4(d) Rate Filing: Initial Rate Filing—Rivervale South to Market to be effective 7/1/2019.

Filed Date: 5/23/19.

Accession Number: 20190523-5086.

Comments Due: 5 p.m. ET 6/4/19.

Docket Numbers: RP19-1238-000.

Applicants: Questar Southern Trails Pipeline Company.

Description: Annual Fuel Gas Reimbursement Report of Questar Southern Trails Pipeline Company.

Filed Date: 5/23/19.

Accession Number: 20190523-5110.

Comments Due: 5 p.m. ET 6/4/19.

Docket Numbers: RP19-1239-000.

Applicants: El Paso Natural Gas Company, L.L.C.

Description: § 4(d) Rate Filing: Negotiated Rate Agreement Update (SRP Jul-Sep 2019) to be effective 7/1/2019.

Filed Date: 5/23/19.

Accession Number: 20190523-5130.

Comments Due: 5 p.m. ET 6/4/19.

Docket Numbers: RP19-1240-000.

Applicants: El Paso Natural Gas Company, L.L.C.

Description: § 4(d) Rate Filing: Negotiated Rate Agreement Update (Pioneer Jul-Sep 2019) to be effective 7/1/2019.

Filed Date: 5/23/19.

Accession Number: 20190523-5131.

Comments Due: 5 p.m. ET 6/4/19.

Docket Numbers: RP19-1241-000.

Applicants: AVAD Operating, LLC.

Description: Joint Petition for Temporary Waivers of Capacity Release Regulations and Policies, et al. of AVAD Operating, LLC, et al.

Filed Date: 5/23/19.

Accession Number: 20190523-5210.

Comments Due: 5 p.m. ET 6/4/19.

Docket Numbers: RP19-1242-000.

Applicants: Stagecoach Pipeline & Storage Company LLC.

Description: § 4(d) Rate Filing: Stagecoach Pipeline & Storage Company LLC—Filing of Tariff Modifications to be effective 6/24/2019.

Filed Date: 5/24/19.

Accession Number: 20190524-5088.

Comments Due: 5 p.m. ET 6/5/19.

Docket Numbers: RP19-1243-000.

Applicants: Northern Natural Gas Company.

Description: § 4(d) Rate Filing: 20190524 Negotiated Rate to be effective 5/25/2019.

Filed Date: 5/24/19.

Accession Number: 20190524-5207.

Comments Due: 5 p.m. ET 6/5/19.

Docket Numbers: RP19-1244-000.

Applicants: Bobcat Gas Storage.

Description: § 4(d) Rate Filing: BGS Form of Service Agreements Cleanup Filing to be effective 7/1/2019.

Filed Date: 5/28/19.

Accession Number: 20190528-5025.

Comments Due: 5 p.m. ET 6/10/19.

Docket Numbers: RP19-1245-000.

Applicants: Steckman Ridge, LP.

Description: § 4(d) Rate Filing: SR Forms of Service Agreement Cleanup Filing to be effective 7/1/2019.

Filed Date: 5/28/19.

Accession Number: 20190528-5026.

Comments Due: 5 p.m. ET 6/10/19.

Docket Numbers: RP19-1246-000.

Applicants: Algonquin Gas Transmission, LLC.

Description: § 4(d) Rate Filing: Negotiated Rates—Boston Gas Releases to BBPC eff 6-1-2019 to be effective 6/1/2019.

Filed Date: 5/28/19.

Accession Number: 20190528-5047.

Comments Due: 5 p.m. ET 6/10/19.

Docket Numbers: RP19-1247-000.

Applicants: Texas Eastern Transmission, LP.

Description: § 4(d) Rate Filing: Negotiated Rates—Aethon 911578 eff 6-1-19 to be effective 6/1/2019.

Filed Date: 5/28/19.

Accession Number: 20190528-5062.

Comments Due: 5 p.m. ET 6/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2019.
Nathaniel J. Davis, Sr.,
Deputy Secretary.

[FR Doc. 2019-11852 Filed 6-5-19; 8:45 am]

BILLING CODE 6717-01-P